DEPARTMENT OF COMMERCE

National Oceanic and Atmospheric Administration

[RTID 0648-XE877]

Pacific Island Fisheries; Marine Conservation Plan for Guam; Western Pacific Sustainable Fisheries Fund

AGENCY: National Marine Fisheries Service (NMFS), National Oceanic and Atmospheric Administration (NOAA), Commerce.

ACTION: Notice of agency decision.

SUMMARY: NMFS announces approval of a Marine Conservation Plan (MCP) for Guam.

DATES: This agency decision is effective from June 10, 2025 through August 3, 2026.

ADDRESSES: You may obtain a copy of the MCP, identified by NOAA-NMFS-2025-0039, from the Federal e-Rulemaking Portal, https://www.regulations.gov/docket/NOAA-NMFS-2025-0039, or from the Western Pacific Fishery Management Council (Council), 1164 Bishop St., Suite 1400, Honolulu, HI 96813, 808-522-8220, https://www.wpcouncil.org.

FOR FURTHER INFORMATION CONTACT: Keith Kamikawa, Sustainable Fisheries, NMFS Pacific Islands Regional Office, 808-725-5177.

SUPPLEMENTARY INFORMATION: Section 204(e) of the Magnuson-Stevens Fishery Conservation and Management Act (Magnuson-Stevens Act) authorizes the Secretary of State, with the concurrence of the Secretary of Commerce (Secretary), and in consultation with the Council, to negotiate and enter into a Pacific Insular Area fishery agreement (PIAFA). A PIAFA would allow foreign fishing within the U.S. Exclusive Economic Zone (EEZ) adjacent to American Samoa, Guam, or the Northern Mariana Islands. The Governor of the Pacific Insular Area to which the PIAFA applies must request the PIAFA. The Secretary of State may negotiate and enter the PIAFA after consultation with, and concurrence of, the applicable Governor.

Before entering into a PIAFA, the applicable Governor, with concurrence of the Council, must develop and submit to the Secretary a 3-year MCP providing details on uses for any funds collected by the Secretary under the PIAFA. The MCP must be consistent with the Council's Fishery Ecosystem Plans, must identify conservation and management objectives (including criteria for determining when such objectives have been met), and must prioritize planned marine conservation projects. NMFS is the designee of the Secretary for MCP review and approval. The Magnuson-Stevens Act requires payments received under a PIAFA to be deposited into the United States Treasury and then conveyed to the Treasury of the Pacific Insular Area for which funds were collected.

In the case of violations by foreign fishing vessels in the EEZ around any Pacific Insular Area, amounts received by the Secretary attributable to fines and penalties imposed under the Magnuson-Stevens Act, including sums collected from the forfeiture and disposition or sale of property seized subject to its authority, are deposited into the Treasury of the Pacific Insular Area adjacent to the EEZ in which the violation occurred, after direct costs of the enforcement action are subtracted. The Pacific Insular Area government may use funds deposited into the Treasury of the Pacific Insular Area for fisheries enforcement and for implementation of a MCP.

At its September 2023 meeting, the Council reviewed and concurred with the Guam MCP. On November 27, 2023, the Governor of Guam submitted the MCP to NMFS for review and approval. NMFS approved this MCP on March 18, 2024, it became effective on March 27, 2024, and it is in effect through August 3, 2026 (89 RF 21241). Following the approval in March 2024, the Governor of Guam submitted an amended MCP to the Council, which reviewed and concurred with the amended MCP at its meeting in December 2024. The Governor of Guam submitted the amended MCP to NMFS for review and approval on January 14, 2025. The amended MCP included revisions to Program Strategy 5.3, the Americans with Disabilities Act Accessible Fishing Platform, to refine its scope and implementation. The approved strategy initially outlined objectives focused on community fishing access, cultural preservation, conservation, education, and inclusivity in Guam's fisheries. The amendments shifted the focus toward structural improvements, including the replacement of steel guardrails and wheel stops with fiberglass; replacing railings on the platform, stairway, and wheelchair ramp; and securing funding for regular maintenance. These refinements increased the priority level of the project from high to very high by emphasizing critical structural improvements that enhance safety and accessibility for users with disabilities. The overall cost was reduced from $320,000 to $140,000 as a result of a more defined scope and the use of more cost-effective materials. All other elements of Program Strategy 5.3 remain unchanged.

The conservation and management objectives of this amended MCP are identical to those included in the MCP currently in effect. Please refer to the amended MCP for projects and activities designed to meet each objective, the evaluative criteria, and priority rankings. The evaluative criteria have also not been amended.

This notice announces that NMFS has reviewed the amended MCP and determined that it satisfies the requirements of the Magnuson-Stevens Act. Accordingly, NMFS has approved the amended MCP for the time period from the publication of this notice through August 3, 2026. This MCP supersedes the plan approved previously for March 27, 2024, through August 3, 2026 (89 FR 21241, March 27, 2024).

Dated: June 4, 2025.
Kelly Denit,
Director, Office of Sustainable Fisheries, National Marine Fisheries Service.

[FR Doc. 2025-10430 Filed 6-9-25; 8:45 am]

BILLING CODE 3510-22-P